DEPARTMENT OF ENERGY

Federal Energy Regulatory Commission

[Docket No. RP00-523-000]

Michigan Gas Storage Company; Notice of Proposed Changes in FERC Gas Tariff

September 6, 2000.

Take notice that on August 31, 2000, Michigan Gas Storage Company (MGSCo) tendered for filing as part of its FERC Gas Tariff, First Revised Volume No. 1, Third Revised Tariff Sheet No. 61 and Third Revised Tariff Sheet No. 63, with an effective date of March 27, 2000.

MGSCo states that the filing is being made in compliance with Order Nos. 637 and 637-A, regarding the removal of the maximum ceiling rate for capacity release transactions. MGSCo had originally filed these tariff changes as part of the pro forma tariff sheets filed July 17, 2000 in Docket No. RP00-396-000.

MGSCo states that copies of this filing are being served on all customers and applicable state regulatory agencies.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-23301 Filed 9-11-00; 8:45 am]

BILLING CODE 6717-01-M